DEPARTMENT OF ENERGY

Federal Energy Regulatory Commission

Combined Notice of Filings #1

March 25, 2010.

Take notice that the Commission received the following electric corporate filings:

Docket Numbers: EC10-51-000.

Applicants: T. Rowe Price Group, Inc.

Description: T. Rowe Price Group Inc et al requests reauthorization and extension of Blanket Authorizations to acquire and dispose of securities under Section 203 of the Federal Power Act.

Filed Date: 03/15/2010.

Accession Number: 20100316-0205.

Comment Date: 5 p.m. Eastern Time on Monday, April 5, 2010.

Take notice that the Commission received the following electric rate filings:

Docket Numbers: ER01-1099-014; ER02-1406-015; ER99-2928-011.

Applicants: Cleco Power LLC; Acadia Power Partners, LLC; Cleco Evangeline LLC.

Description: Cleco Power, LLC et al submits a notice of non-material change in status.

Filed Date: 03/25/2010.

Accession Number: 20100325-0208.

Comment Date: 5 p.m. Eastern Time on Thursday, April 15, 2010.

Docket Numbers: ER10-549-000.

Applicants: PJM Interconnection, LLC.

Description: PJM Interconnection, LLC submits response to FERC 2/25/2010 letter.

Filed Date: 03/22/2010.

Accession Number: 20100324-0026.

Comment Date: 5 p.m. Eastern Time on Monday, April 12, 2010.

Docket Numbers: ER10-904-000.

Applicants: NFI Solar, LLC.

Description: Amendment to Application for market-based rate authority, request for waivers and authorizations, and request for finding of qualification as Category 1 Seller, and for expedited consideration re NFI Solar, LLC.

Filed Date: 03/22/2010.

Accession Number: 20100324-0027.

Comment Date: 5 p.m. Eastern Time on Monday, April 5, 2010.

Docket Numbers: ER10-930-000.

Applicants: Consolidated Edison Company of New York.

Description: Consolidated Edison Company of New York, Inc submits amendments to their Delivery Service Rate Schedule, FERC Rate Schedule 96 et al.

Filed Date: 03/24/2010.

Accession Number: 20100324-0218.

Comment Date: 5 p.m. Eastern Time on Wednesday, April 14, 2010.

Docket Numbers: ER10-931-000.

Applicants: Virginia Electric and Power Company.

Description: Virginia Electric and Power Company submits Sixth Revised Sheet 314G.01 et al to FERC Electric Tariff, Sixth Revised Volume 1 to PJM Interconnection, LLC open-access transmission tariff, to be effective 3/25/10.

Filed Date: 03/24/2010.

Accession Number: 20100325-0202.

Comment Date: 5 p.m. Eastern Time on Wednesday, April 14, 2010.

Docket Numbers: ER10-932-000.

Applicants: PacifiCorp.

Description: PacifiCorp submits Network Integration Transmission Service Agreement dated 3/16/10 with Basin Electric Power Cooperative to be designated as First Revised Service Agreement 505 to FERC Electric Tariff, Seventh Revised Volume 11.

Filed Date: 03/24/2010.

Accession Number: 20100325-0201.

Comment Date: 5 p.m. Eastern Time on Wednesday, April 14, 2010.

Docket Numbers: ER10-933-000.

Applicants: Southern Company Services, Inc.

Description: Alabama Power Company et al submits for filing an amendment to the Network Integration Transmission Service Agreement with PowerSouth Energy Cooperative et al.

Filed Date: 03/25/2010.

Accession Number: 20100325-0206.

Comment Date: 5 p.m. Eastern Time on Thursday, April 15, 2010.

Docket Numbers: ER10-934-000.

Applicants: Cleco Power LLC.

Description: Cleco Power, LLC submits Agreement Addressing Balancing Authority Area Requirements and Reliability Standards with City of Alexandria.

Filed Date: 03/25/2010.

Accession Number: 20100325-0207.

Comment Date: 5 p.m. Eastern Time on Thursday, April 15, 2010.

Docket Numbers: ER10-935-000.

Applicants: Stony Creek Wind Farm, LLC.

Description: Request by Stony Creek Wind Farm, LLC for Expedited Consideration of waiver of NYISO Class Year eligibility requirement to provide notice by the study start date of the Annual Transmission Reliability Assessment, accepted for filing.

Filed Date: 03/25/2010.

Accession Number: 20100325-5058.

Comment Date: 5 p.m. Eastern Time on Monday, April 5, 2010.

Take notice that the Commission received the following open access transmission tariff filings:

Docket Numbers: OA07-36-006; OA08-46-005; OA08-93-003.

Applicants: South Carolina Electric & Gas Company.

Description: South Carolina Electric & Gas Company submits a compliance filing containing SCE&G's revised Attachment K to SCE&G's Order No. 890-A OATT.

Filed Date: 03/24/2010.

Accession Number: 20100324-5104.

Comment Date: 5 p.m. Eastern Time on Wednesday, April 14, 2010.

Docket Numbers: OA08-97-003.

Applicants: MidAmerican Energy Company.

Description: Annual Informational Report on Penalty Assessments and Distributions.

Filed Date: 03/25/2010.

Accession Number: 20100325-5052.

Comment Date: 5 p.m. Eastern Time on Thursday, April 15, 2010.

Docket Numbers: OA10-8-000.

Applicants: Idaho Power Company.

Description: Idaho Power Company submits its annual compliance report on operational penalty assessments and distributions.

Filed Date: 03/25/2010.

Accession Number: 20100325-0209.

Comment Date: 5 p.m. Eastern Time on Thursday, April 15, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-7425 Filed 4-1-10; 8:45 am]

BILLING CODE 6717-01-P